DEPARTMENT OF HOMELAND SECURITY

Information Analysis and Infrastructure Protection Directorate; Submission for Emergency Processing for National Cyber Security Survey

AGENCY: Information Analysis and Infrastructure Protection, DHS.

ACTION: Notice; request for comments.

SUMMARY: The Department of Homeland Security (DHS) will submit to OMB 1630-NEW information collection request (ICR) utilizing emergency review procedures, to the Office of Management and Budget (OMB) for review and clearance in accordance with the Paperwork Reduction Act of 1995. DHS is seeking OMB approval by August 30, 2004. A copy of this ICR, with the applicable supporting documentation, may be obtained by calling the Department of Homeland Security, Yvonne Pollard at 202-692-4221 (this is not a toll free number).

ADDRESSES: Written comments and/or suggestions for the items contained in this notice should be directed to the Office of Information and Regulatory Affairs, Attn: OMB Desk Officer for Homeland Security, Office of Management and Budget, Room 10235, Washington, DC 20503, at 202-395-7316.

FOR FURTHER INFORMATION CONTACT: John Roberts or Cathy Lockwood at 202-708-7000 (this is not a toll free number).

SUPPLEMENTARY INFORMATION: This process is conducted in accordance with 5 CFR 1320.13. A copy of this ICR, with applicable supporting documentation, may be obtained by calling the Paperwork Reduction Contact listed. The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Information Analysis and Infrastructure Protection, Department of Homeland Security.

Title: National Cyber Security Survey.

OMB Number: 1630-NEW.

Frequency: On occasion.

Affected Public: Business or other for-profit.

Estimated Number of Respondents: 3,900.

Estimated Time Per Respondent: 30 minutes.

Total Burden Hours: 1,950.

Total Burden Cost: (Capital/Startup): None.

Total Burden Cost: (Operating/Maintaining): None.

Description: The National Cyber Security Survey provides the ability to measure, within each of DHS’ critical infrastructure sectors, cyber dependencies and process controls to providing the basis for tracking the progress in security in the nation's information infrastructure.

Dated: July 19, 2004.
Steve Cooper,
Chief Information Officer.

[FR Doc. 04-16896 Filed 7-23-04; 8:45 am]

BILLING CODE 4410-10-P